AGENCY FOR INTERNATIONAL DEVELOPMENT

Agency Information Collection Activities; Submission to the Office of Management and Budget for Review and Approval; Comment Request; Submission for Review

AGENCY: U.S. Agency for International Development.

ACTION: 30-Day notice and request for comments.

SUMMARY: Under the provision of the Paperwork Reduction Act of 1995, the U.S. Agency for International Development (USAID) has submitted to the Office of Management and Budget (OMB) a request for review and approval of the information collection of the Contractor Employee Biographical Data Sheet. The purpose of this notice is to allow an additional 30 days for public comments. This information was previously published in the Federal Register on February 6, 2018. USAID received four comments during the 60 Day Notice comment period.

DATES: Comments are encouraged and will be accepted until January 2, 2019. This process is conducted in accordance with 5 CFR 1320.1.

ADDRESSES: Interested persons are invited to submit written comments on the proposed information collection to the Comments should be addressed to: Desk Officer for USAID, Office of Information and Regulatory Affairs, Office of Management and Budget (OMB), Washington DC 20503 or be sent via email to OIRA_Submission@omb.eop.gov.

FOR FURTHER INFORMATION CONTACT: Jaqueline Lewis Taylor, Sr. Procurement Analyst, USAID, RRB, 1300 Pennsylvania Ave. NW, Washington, DC 20523; (202) 567-4673 or at jltaylor@usaid.gov. Copies of the data sheet may be obtained from Ms. Taylor.

SUPPLEMENTARY INFORMATION: Title: Contractor Employee Biographical Data Sheet.

Analysis: Information Collection requirements for the pre-award stage are needed to ensure Agency contracting personnel can exercise prudent management in determining that an offeror either has or can obtain the ability to competently manage development assistance programs utilizing public funds.

OMB Number: OMB 0412-XXXX.

Agency Form No.: 1420-17.

Agency: U.S. Agency for International Development.

Federal Register: This information was previously published in the Federal Register on February 6, 2018 at Volume 83 FR 5235 allowing for a 60-day public comment period.

Affected Public: The Offerors and contractors that complete the form for employees and consultants who will be employed on the contract.

Number of Respondents: 36,467.

Frequency: 8 per year.

Estimated number of hours: 69,894 hours.

Paulette Murray,
Supervisor, Bureau for Management, Office of Management Services, Information and Records Division, U.S. Agency for International Development.

[FR Doc. 2018-26174 Filed 11-30-18; 8:45 am]

BILLING CODE P